DEPARTMENT OF TRANSPORTATION

Federal Aviation Administration

Environmental Impact Statement: Theodore Francis Green Airport, Warwick, RI

AGENCY: Federal Aviation Administration (FAA), DOT.

ACTION: Notice of availability.

SUMMARY: The FAA is issuing this notice to advise the public that a Record of Decision (ROD), resulting from an Environmental Impact Statement (EIS) Re-evaluation has been prepared for Theodore Francis Green Airport, Warwick, Rhode Island.

FOR FURTHER INFORMATION CONTACT: Richard Doucette, Environmental Program Manager, Federal Aviation Administration New England, 12 New England Executive Park, Burlington MA 01803. Telephone (781) 238-7613.

SUPPLEMENTARY INFORMATION: The FAA has issued a ROD regarding airport improvements at Theodore Francis Green Airport, Warwick, Rhode Island. The ROD documents the final Agency decisions regarding the proposed projects as described and analyzed in the EIS Re-evaluation. The ROD is available for review during normal business hours at the following locations: FAA New England Region, Airports Division, 16 New England Executive Park, Burlington MA. Telephone (781) 238-7613 and at RIAC offices, T.F.Green Airport, 2000 Post Rd., Warwick RI.

Issued on: January 25, 2013.
Mary Walsh,
Manager, Airports Division.

[FR Doc. 2013-02605 Filed 2-5-13; 8:45 am]

BILLING CODE 4910-13-P